DEPARTMENT OF LABOR

Office of the Secretary

Submission for OMB Review: Comment Request

March 30, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension of a currently approved collection.

Title: Labor Market Information (LMI) Cooperative Agreement.

OMB Number: 1220-0079.

Type of Response: Reporting and Recordkeeping.

Affected Public: State, Local, or Tribal Government.

Frequency: Quarterly; Monthly; and Annually.

Number of Respondents: 55.

Total Annual Responses: 860.

Estimated Total Annual Burden Hours: 793.

Estimate Average Response Time: Varies by report, see below.

Information collection | Respondents | Frequency | Responses | Time | Total hours
Work Statements | 55 | 1 | 55 | 1-2 hr | 55-110
BIF (LMI 1A, 1B) | 55 | 1 | 55 | 1-6 hr | 55-330
Quarterly Automated Financial Reports | 48 | 4 | 192 | 10-50 min | 32-160
Monthly Automated Financial Reports | 48 | * 8 | 384 | 5-25 min | 32-160
BLS Cooperative Statistics Fin. Report (LMI 2A) | 7 | 12 | 84 | 1-5 hr | 84-420
Quarterly Status Report (LMI 2B) | 1-30 | 4 | 4-120 | 1 hr | 4-120
Budget Variance Request Form | 1-55 | 1 | 1-55 | 5-25 min | 0-23
Total | 1-55 |  | 775-945 |  | 262-1323
Average Totals | 55 |  | 860 |  | 793
* Reports are not received for end-of-quarter months, i.e., December, March, June, and September.

Total Annualized capital/startup costs: $0.

Total Annual Costs (operating/maintaining systems or purchasing services): $0.

Description: The Bureau of Labor Statistics awards funds under authority of 29 U.S.C. Chapter 1 to State Workforce Agencies (SWAs) in the 50 States, the District of Columbia, Puerto Rico, the Virgin Islands, and Guam to assist them in operating one or more of five Labor Market Information (LMI) cooperative statistical programs, which themselves have been approved by OMB separately, as follows:

Program | OMB No.
Current Employment Statistics (CES) | 1220-0011
Local Area Unemployment Statistics (LAUS) | 1220-0017
Occupational Employment Statistics (OES) | 1220-0042
Quarterly Census of Employment and Wages (QCEW) | 1220-0012
Mass Layoff Statistics Program (MLS) | 1220-0090

The LMI Cooperative Agreement (CA) is the vehicle through which SWAs are awarded funds. The CA package includes application instructions and materials, as well as financial reporting, closeout, and other administrative requirements, as spelled out in OMB Circular A-102, Grants and Cooperative Agreements with State and Local Governments, and its implementing common rule in 2 CFR part 215, and as published by the Department of Labor at 29 CFR part 97.

Ira L. Mills,
Departmental Clearance Officer.

[FR Doc. E6-4921 Filed 4-4-06; 8:45 am]

BILLING CODE 4510-24-P